NATIONAL SCIENCE FOUNDATION

Advisory Committee for International Science and Engineering

Notice of Meeting

In accordance with Federal Advisory Committee Act (Pub. L. 92-463, as amended), the National Science Foundation announces the following Meeting:

Name: Advisory Committee for International Science and Engineering (25104).

Date and Time: October 29, 2007; 8 a.m. to 6 p.m.

Place: National Science Foundation, 4201 Wilson Boulevard, Room 375, Arlington, Virginia.

Type of Meeting: Open.

For Further Information Contact: Eduardo Feller, National Science Foundation, 4201 Wilson Boulevard, Room 935, Arlington, VA 22230, (703) 292-8710.

If you are attending the meeting and need access to the NSF, please contact the individual listed above so that your name may be added to the building access list.

Purpose of Meeting: To provide advice on the programs and plans of the Office of International Science and Engineering (OISE).

Agenda: Update on OISE Activities, Reflections on the OISE Role in NSF, OISE Collaboration with the NSF Education and Human, Resources Directorate, Impact of Proposal and Award Management Mechanisms Report, NSF Broadening Participation Working Group, International Cooperation with Developing Countries, Partnerships for International Research and Education, Cooperation with the Department of State.

Dated: September 26, 2007.
Susanne Bolton,
Committee Management Officer.

[FR Doc. E7-19357 Filed 10-1-07; 8:45 am]

BILLING CODE 7555-01-P